DEPARTMENT OF HEALTH AND HUMAN SERVICES

Request for Information (RFI): Guidance for Prioritization of Pre-pandemic and Pandemic Influenza Vaccine—Extension of Comment Period

AGENCY: Office of the Secretary, Department of Health and Human Service.

ACTION: Notice.

SUMMARY: On December 14, 2006, the Department of Health and Human Services (HHS) issued a notice in the Federal Register (FR Doc. Vol. 71, No. 240, Pages 75252-75253) to request input from the public on considerations in developing guidance for prioritization of the distribution and administration of both pre-pandemic and pandemic influenza vaccines based on various pandemic severity and vaccine supply scenarios. Specifically, HHS is seeking input on pandemic influenza vaccine prioritization considerations from all interested and affected parties, including but not limited to public health and health care individuals and organizations, as well as those from other sectors of the economy including, for example, travel and transportation, commerce and trade, law enforcement, emergency management and responders, other critical infrastructure sectors and the general public.

Previous reports relating to pandemic influenza vaccine prioritization issues are available at http://www.pandemicflu.gov.

The purpose of this notice is to inform all interested parties that the comment period originally identified in the December 14, 2006 Federal Register is now being extended to February 5, 2007.

DATES: Responses should be submitted to the Department of Health and Human Services on or before 5 p.m., EDT, February 5, 2007.

Instructions for Submitting Comments: Electronic responses are preferred and may be addressed to PandemicFlu.RFI@hhs.gov. Written responses should be addressed to the Department of Health and Human Services, Room 434E, 200 Independence Avenue, SW., Washington, DC 20201, Attention: Pandemic Influenza Vaccine Prioritization RFI. A copy of this RFI is also available on the PandemicFlu.Gov Web site and at http://www.aspe.hhs.gov/PIV/rfi. Please follow instructions for submitting responses.

FOR FURTHER INFORMATION CONTACT: Ben Schwartz, Office of Public Health and Science, (404) 639-8953.

SUPPLEMENTARY INFORMATION: Extensive information on Federal government strategic and implementation plans for pandemic flu is available at http://www.pandemicflu.gov.

Dated: January 19, 2007.
John O. Agwunobi,
Assistant Secretary of Health, Office of Public Health and Science, Department of Health and Human Services.

[FR Doc. 07-323 Filed 1-24-07; 8:45 am]

BILLING CODE 4151-05-M